DEPARTMENT OF TRANSPORTATION

National Highway Traffic Safety Administration

49 CFR Parts 533

[Docket No. 2002-11419]

RIN 2127-AI70

Correction to Request for Comments; National Academy of Sciences Study and Future Fuel Economy Improvements, Model Years 2005-2010

AGENCY: National Highway Traffic Safety Administration (NHTSA), Department of Transportation.

ACTION: Correction to request for comments.

SUMMARY: This document contains corrections to the request for comments on the National Academy of Sciences study and future fuel economy improvements for model years 2005-2010, which was published on Thursday, February 7, 2002 (67 FR 5767).

DATES: The comment deadline remains May 8, 2002.

FOR FURTHER INFORMATION CONTACT: For non-legal issues, call Ken Katz, Lead Engineer, Consumer Programs Division, Office of Planning and Consumer Programs, at (202) 366-0846, facsimile (202) 493-2290, electronic mail, kkatz@nhtsa.dot.gov. For legal issues, call Otto Matheke, Office of the Chief Counsel, at (202) 366-5263.

SUPPLEMENTARY INFORMATION:

Background

The request for comments that is the subject of this correction seeks information that will assist the agency in developing a proposal for light truck CAFE standards for model years beyond 2004. NHTSA currently plans to cover some or all of model years 2005 to 2010 in the proposal. The agency is seeking information that will help it assess the extent to which manufacturers can improve light truck fuel economy during those years, the benefits and costs to consumers of fuel economy improvements, the benefits to the nation of reducing fuel consumption, and the number of model years that should be covered by the proposal.

Need for Correction

As published, the appendix to the request for comments contains errors, which are in need of clarification.

Correction of Publication

Accordingly, the publication on February 7, 2002 (67 FR 5767) is corrected in the appendix as follows:

On page 5775, definition number 1, which set forth a number of definitions as follows: “ ‘Automobile,’ ‘fuel economy,’ ‘manufacturer,’ and ‘model year,’ have the meaning given them in Section 501 of the Motor Vehicle Information and Cost Savings Act, 15 U.S.C. 2001,” refers to a statutory section that has been recodified. Definition number 1 is corrected to read “ ‘Automobile,’ ‘fuel economy,’ ‘manufacturer,’ and ‘model year,’ have the meaning given them in Section 32901 of Chapter 329 of Title 49 of the United States Code, 49 U.S.C. 32901.”

On page 5775, definition number 3, “Basic engine,” item (i) the parenthetical phrase “(in cubic inches)” is corrected to read “(in liters).”

On page 5775, definition number 4, “Domestically manufactured” which stated: “ ‘Domestically manufactured’ is used as defined in Section 503(b)(2)(E) of the Act.,” is corrected to read “ ‘Domestically manufactured’ is used as defined in Section 32904(b)(2) of Chapter 329, 49 U.S.C. 32904(b)(2).”

On page 5775, definition number 16, “Transmission class” contains a typographical error in the citation of the regulation referenced in the definition. The first sentence of the definition, which stated: “ ‘Transmission class’ is used as defined in 40 CFR 600.002-05(22)(a),” is corrected to read “ ‘Transmission class’ is used as defined in 40 CFR 600.002-85(a)(22).”

On page 5775, definition number 17, “Truckline,” which stated: “ ‘Truckline’ means the name assigned by the Environmental Protection Agency to a different group of vehicles within a make or car division in accordance with that agency's 1994 model year pickup, van (cargo vans and passenger vans are considered separate truck lines), and special purpose vehicle criteria” is corrected to read, “ ‘Truckline’ means the name assigned by the Environmental Protection Agency to a different group of vehicles within a make or car division in accordance with that agency's 2001 model year pickup, van (cargo vans and passenger vans are considered separate truck lines), and special purpose vehicle criteria.”

On page 5776, specification number 3, item f, which stated “Estimated power absorption unit (PAU) setting, in hp” is corrected to read, “Estimated power absorption unit (PAU) setting, in hp. Alternately, the total road load horsepower at 50 miles per hour can be provided.”

On page 5776, specification number 5, inadvertently skipped the letter d when listing the standards or equipment the agency is seeking comment on. Specification number 5 is corrected to read as follows:

5. Relative to MY 2001 levels, for MYs 2005-2010, please provide information, by truckline and as an average effect on a manufacturer's entire light truck fleet, on the weight and/or fuel economy impacts of the following standards or equipment:

a. Federal Motor Vehicle Safety Standard (FMVSS 208) Automatic Restraints

b. FMVSS 201 Occupant Protection in Interior Impact

c. Voluntary installation of safety equipment (e.g., antilock brakes)

d. Environmental Protection Agency regulations

e. California Air Resources Board requirements

f. Other applicable motor vehicle regulations affecting fuel economy.

On page 5776, specification number 6, the phrase “provide the requested information for each of items ‘6a’ through ‘6o’ is corrected to read “provide the requested information for each of items ‘6a’ through ‘6q’ ”.

On page 5777, specification number 8, the phrase “ ‘a’ through ‘k’ ”, which appears in the first paragraph and the third paragraph, is corrected to read “ ‘a’ through ‘i’ ”.

On page 5777, specification number 8, item g, the sentence “Average PAU setting: Provide the value and show whether the value (or estimated value) is based on coastdown testing (T) or calculated from the vehicle frontal area (C). Round the PAU value to one decimal Place” is corrected to read “Average PAU setting: Provide the value and show whether the value (or estimated value) is based on coastdown testing (T) or calculated from the vehicle frontal area (C). Round the PAU value to one decimal Place. Alternately, the total road load horsepower at 50 miles per hour can be provided.”

On page 5777, specification number 11, the sentence “For each new or redesigned vehicle identified in response to Question 3 and each new engine or fuel economy improvement identified in your response to Questions 3, 5, and 6, provide your best estimate of the following, in terms of constant 1996 dollars:” is corrected to read “For each new or redesigned vehicle identified in response to Question 3 and each new engine or fuel economy improvement identified in your response to Questions 3, 4, 5, and 6, provide your best estimate of the following, in terms of constant 2001 dollars:'

On page 5777, specification number 12, the sentence “Please provide respondent's actual and projected U.S. light truck sales, 4x2 and 4x4, 0-8,500 lbs. GVWR and 8501-10,000 lbs., GVWR for each model year from 1996 through 2002, inclusive.” is corrected to read “Please provide respondent's actual and projected U.S. light truck sales, 4x2 and 4x4, 0-8,500 lbs. GVWR and 8501-10,000 lbs., GVWR for each model year from 2001 through 2004, inclusive.”

The corrected Appendix is printed in its entirety below:

Appendix

I. Definitions

As used in this appendix—

1. “Automobile,” “fuel economy,” “manufacturer,” and “model year,” have the meaning given them in Section 32901 of Chapter 329 of Title 49 of the United States Code, 49 U.S.C. 32901.

2. “Cargo-carrying volume,” “gross vehicle weight rating” (GVWR), and “passenger-carrying volume” are used as defined in 49 CFR 523.2.

3. “Basic engine” has the meaning given in 40 CFR 600.002-85(a)(21). When identifying a basic engine, respondent should provide the following information:

(i) Engine displacement (in liters).

(ii) Number of cylinders or rotors.

(iii) Number of valves per cylinder.

(iv) Cylinder configuration (V, in-line, etc.).

(v) Number of carburetor barrels, if applicable.

(vi) Other engine characteristics, abbreviated as follows:

DD—Direct Injection Diesel

ID—Indirect Injection Diesel

TB—Throttle Body Fuel Injection S.I. (Spark Ignition)

MP—Multipoint Fuel Injection S.I.

TD—Turbocharged Diesel

TS—Turbocharged S.I.

FFS—Feedback Fuel System

2C—Two-stroke engines

VVT—Variable valve timing

VVLT—Variable valve lift and timing

SOHC—Single overhead camshaft

DOHC—Dual overhead camshafts

CYDA—Cylinder deactivation

IVT—Intake valve throttling

CVA—Camless valve actuation

VCR—Variable compression ratio

LBFB—lean burn-fast burn combustion

4. “Domestically manufactured” is used as defined in Section 32904(b)(2) of Chapter 329, 49 U.S.C. 32904(b)(2).

5. “Light truck” means an automobile of the type described in 49 CFR Part 523.5.

6. A “model” of light truck is a line, such as the Chevrolet C1500 or Astro, Ford F150 or E150, Jeep Wrangler, etc., which exists within a manufacturer's fleet.

7. “Model Type” is used as defined in 40 CFR 600.002-85(a)(19).

8. “Percent fuel economy improvements” means that percentage which corresponds to the amount by which respondent could improve the fuel economy of vehicles in a given model or class through the application of a specified technology, averaged over all vehicles of that model or in that class which feasibly could use the technology. Projections of percent fuel economy improvement should be based on the assumption of maximum efforts by respondent to achieve the highest possible fuel economy increase through the application of the technology. The baseline for determination of percent fuel economy improvement is the level of technology and vehicle performance with respect to acceleration and gradeability for respondent's 2001 model year light trucks in the equivalent class.

9. “Percent production implementation rate” means that percentage which corresponds to the maximum number of light trucks of a specified class, which could feasibly employ a given type of technology if respondent made maximum efforts to apply the technology by a specified model year.

10. “Production percentage” means the percent of respondent's light trucks of a specified model projected to be manufactured in a specified model year.

11. “Project” or “projection” refers to the best estimates made by respondent, whether or not based on less than certain information.

12. “Redesign” means any change, or combination of changes, to a vehicle that would change its weight by 50 pounds or more or change its frontal area or aerodynamic drag coefficient by 2 percent or more.

13. “Relating to” means constituting, defining, containing, explaining, embodying, reflecting, identifying, stating, referring to, dealing with, or in any way pertaining to.

14. “Respondent” means each manufacturer (including all its divisions) providing answers to the questions set forth in this appendix, and its officers, employees, agents or servants.

15. “Test Weight” is used as defined in 40 CFR 86.082-2.

16. “Transmission class” is used as defined in 40 CFR 600.002-85(22). When identifying a transmission class, respondent also must indicate whether the type of transmission, and whether it is equipped with a lockup torque converter (LUTC), a split torque converter (STC), and/or a wide gear ratio range (WR) and specify the number of forward gears or whether the transmissions a continuously variable design (CVT). If the transmission is of a hybrid type, that should also be indicated.

17. “Truckline” means the name assigned by the Environmental Protection Agency to a different group of vehicles within a make or car division in accordance with that agency's 2001 model year pickup, van (cargo vans and passenger vans are considered separate truck lines), and special purpose vehicle criteria.

18. “Utility vehicle” means a form of light truck, either two-wheel drive (4x2) or four-wheel drive (4x4), and is exemplified by a Jeep Wrangler or Cherokee, a Chevrolet Blazer, Ford Explorer, or a Toyota Land Cruiser.

19. The term “van” is used as defined in 40 CFR 86.082-2.

20. “Variants of existing engines” means versions of an existing basic engine that differ from that engine in terms of displacement, method of aspiration, induction system or that weigh at least 25 pounds more or less than that engine.

II. Assumptions

All assumptions concerning emission standards, damageability regulations, safety standards, etc., should be listed and described in detail by the respondent.

III. Specifications

1. Identify all light truck models currently offered for sale in MY 2001 whose production you project discontinuing before MY 2005 and identify the last model year in which each will be offered.

2. Identify all basic engines offered by respondent in MY 2001 light trucks which respondent projects it will cease to offer for sale in light trucks before MY 2005, and identify the last model year in which each will be offered.

3. Does the respondent currently project offering for sale for the time period of MY 2005-2010 any new or redesigned light trucks, including vehicles smaller than those now produced? If so, provide the following information for each model (e.g., Chevrolet C1500, Ford F150). Model types which are essentially identical except for their nameplates (e.g., Dodge Caravan/Plymouth Voyager) may be combined into one item. See Table A for a sample format; 4x2 and 4x4 light trucks are different models.

a. Body types to be offered for sale (e.g., regular cab, super cab).

b. Description of basic engines, or power sources (i.e., fuel cell) including optional horsepower and torque ratings, if any; displacement; number and configuration of cylinders; type of fuel injection system; fuel type; number of valves per cylinder, and whether it is 2-cycle or 4-cycle or uses variable valve timing.

c. Transmission type (manual, automatic, number of forward speeds, hybrid, overdrive, etc., as applicable), including gear ratios and final drive, alternative ratios offered, driveline configuration, and special features such as torque converter lockup clutches, electronic controls or CVT design.

d. (i) The range of GVW ratings to be offered for each body type.

(ii) The range of test weights for each body type.

e. All wheelbases.

f. Estimated power absorption unit (PAU) setting, in hp. Alternately, the total road load horsepower at 50 miles per hour can be provided.

g. The range of projected EPA composite fuel economies for each body type in the initial model year of production.

h. Projected introduction date (model year).

i. Projected sales for each model year from the projected year of introduction through MY 2010, expressed both as an absolute number of units sold and as percentage of all light trucks sold by respondent.

j. Projections of:

(i) Existing models replaced by new models.

(ii) Reduced sales of respondent's existing models as a result of the sale of each of the new models.

(iii) New sales not captured from any of the respondent's existing models.

4. Does respondent project introducing any variants of existing basic engines or any new basic engines, other than those mentioned in your response to Question 3, in its light truck fleets in MYs 2005-2010? If so, for each basic engine or variant indicate:

a. The projected year of introduction,

b. Type (e.g., spark ignition, direct injection diesel, 2-cycle, alternative fuel use),

c. Displacement,

d. Type of induction system (e.g., fuel injection with turbocharger, naturally aspirated),

e. Cylinder configuration (e.g., V-8, V-6, I-4),

f. Number of valves per cylinder (e.g., 2, 3, 4, 6),

g. Horsepower and torque ratings,

h. Models in which engines are to be used, giving the introduction model year for each model if different from “a,” above. (See Table B for a sample format.)

5. Relative to MY 2001 levels, for MYs 2005-2010, please provide information, by truckline and as an average effect on a manufacturer's entire light truck fleet, on the weight and/or fuel economy impacts of the following standards or equipment:

a. Federal Motor Vehicle Safety Standard (FMVSS 208) Automatic Restraints

b. FMVSS 201 Occupant Protection in Interior Impact

c. Voluntary installation of safety equipment (e.g., antilock brakes)

d. Environmental Protection Agency regulations

e. California Air Resources Board requirements.

f. Other applicable motor vehicle regulations affecting fuel economy.

6. For each of the model years 2005-2010, and for each light truck model projected to be manufactured by respondent (if answers differ for the various models), provide the requested information for each of items “6a” through “6q” listed below:

(i) description of the nature of the technological improvement;

(ii) the percent fuel economy improvement averaged over the model;

(iii) the basis for your answer to 6(ii), (e.g., data from dynamometer tests conducted by respondent, engineering analysis, computer simulation, reports of test by others);

(iv) the percent production implementation rate and the reasons limiting the implementation rate;

(v) a description of the 2001 baseline technologies and the 2001 implementation rate; and

(vi) the reasons for differing answers you provide to items (ii) and (iv) for different models in each model year. Include as a part of your answer to 6(ii) and 6(iv) a tabular presentation, a sample portion of which is shown in Table C.

a. Improved automatic transmissions. Projections of percent fuel economy improvements should include benefits of lock-up or bypassed torque converters, electronic control of shift points and torque converter lock-up, and other measures which should be described.

b. Improved manual transmissions. Projections of percent of fuel economy improvement should include the benefits of increasing mechanical efficiency, using improved transmission lubricants, and other measures (specify).

c. Overdrive transmissions. If not covered in “a” or “b” above, project the percentage of fuel economy improvement attributable to overdrive transmissions (integral or auxiliary gear boxes), two-speed axles, or other similar devices intended to increase the range of available gear ratios. Describe the devices to be used and the application by model, engine, axle ratio, etc.

d. Use of engine crankcase lubricants of lower viscosity or with additives to improve friction characteristics or accelerate engine break-in, or otherwise improved lubricants to lower engine friction horsepower. When describing the 2001 baseline, specify the viscosity of and any fuel economy-improving additives used in the factory-fill lubricants.

e. Reduction of engine parasitic losses through improvement of engine-driven accessories or accessory drives. Typical engine-driven accessories include water pump, cooling fan, alternator, power steering pump, air conditioning compressor, and vacuum pump.

f. Reduction of tire rolling losses, through changes in inflation pressure, use of materials or constructions with less hysteresis, geometry changes (e.g., increased aspect ratio), reduction in sidewall and tread deflection, and other methods. When describing the 2001 baseline, include a description of the tire types used and the percent usage rate of each type.

g. Reduction in other driveline losses, including losses in the non-powered wheels, the differential assembly, wheel bearings, universal joints, brake drag losses, use of improved lubricants in the differential and wheel bearing, and optimizing suspension geometry (e.g., to minimize tire scrubbing loss).

h. Reduction of aerodynamic drag.

i. Turbocharging or supercharging.

j. Improvements in the efficiency of 4-cycle spark ignition engines including (1) increased compression ratio; (2) leaner air-to-fuel ratio; (3) revised combustion chamber configuration; (4) fuel injection; (5) electronic fuel metering; (6) interactive electronic control of engine operating parameters (spark advance, exhaust gas recirculation, air-to-fuel ratio); (8) variable valve timing or valve lift; (9) multiple valves per cylinder; (10) friction reduction by means such as low tension piston rings and roller cam followers; (11) higher temperature operation; and (12) other methods (specify).

k. Naturally aspirated diesel engines, with direct or indirect fuel injection.

l. Turbocharged or supercharged diesel engines with direct or indirect fuel injection.

m. Stratified-charge reciprocating or rotary engines, with direct or indirect fuel injection.

n. Two cycle spark ignition engines.

o. Use of hybrid drivetrains.

p. Use of fuel cells; provide a thorough description of the fuel cell technology employed, including fuel type and power output.

q. Other technologies for improving fuel economy or efficiency.

7. For each model of respondent's light truck fleet projected to be manufactured in each of MYs 2005-2010, describe the methods used to achieve reductions in average test weight. For each specified model year and model, describe the extent to which each of the following methods for reducing vehicle weight will be used. Separate listings are to be used for 4x2 light trucks and 4x4 light trucks.

a. Substitution of materials.

b. “Downsizing” of existing vehicle design to reduce weight while maintaining interior roominess and comfort for passengers, and utility, i.e., the same or approximately the same, payload and cargo volume, using the same basic body configuration and driveline layout as current counterparts.

c. Use of new vehicle body configuration concepts, which provides reduced weight for approximately the same payload and cargo volume.

8. For each model year 2005-2010, list all projected light truck model types and provide the information specified in “a” through “i” below for each model type.

The information should be in tabular form, with a separate table for each model year. Each grouping is to be subdivided into separate listings for models with 4x2 and 4x4 drive systems. Engines having the same displacement but belonging to different engine families are to be grouped separately. The vehicles are to be sorted first by truckline, second by basic engine, and third by transmission type. For these groupings, the average test weights are to be placed in ascending order. List the categories in terms “a” through “i” below in the order specified from left to right across the top of the table. Include in the table for each model year the total sales-weighted harmonic average fuel economy and average test weight for imported and domestic light trucks for each truckline and for all of the respondent's light trucks.

a. Truckline, e.g., C1500, F-150, B-150. Model types which are essentially identical except for their nameplates (e.g., Chevrolet S-10/GMC S-15 and Dodge Caravan/Plymouth Voyager) may be combined into one line item.

b. Light truck vehicle type, e.g., compact pickup, cargo van, passenger van, utility, truck-based station wagon, and chassis cab. Other light truck designations, which are adequately defined, can be used if these are not suitable.

c. Basic engine: Include the engine characteristics used in Definition 3.

d. Transmission class (e.g., A3, L4, A40D, M5, CVT): Include the characteristics used in Definition 16.

e. Average ratio of engine speed to vehicle speed in top gear (N/V), rounded to one decimal place.

f. Average test weight.

g. Average PAU setting: Provide the value and show whether the value (or estimated value) is based on coastdown testing (T) or calculated from the vehicle frontal area (C). Round the PAU value to one decimal Place. Alternately, the total road load horsepower at 50 miles per hour can be provided.

h. Composite fuel economy (Sales weighted, harmonically averaged over the specified vehicles, rounded to the nearest 0.1 mpg).

i. Projected sales for the vehicles described in each line item.

9. For each transmission identified in response to 8(d) above, provide a listing showing whether the transmission is manual or automatic, the gear ratios for the transmission, and the models which will use the transmission.

10. Indicate any MY 2005-2010 light truck model types which have higher average test weights than comparable MY 2001 model types. Describe the reasons for any weight increases (e.g., increased option content, less use of premium materials) and provide supporting justification.

11. For each new or redesigned vehicle identified in response to Question 3 and each new engine or fuel economy improvement identified in your response to Questions 3, 4, 5, and 6, provide your best estimate of the following, in terms of constant 2001 dollars:

(a) Total capital costs required to implement the new/redesigned model or improvement according to the implementation schedules specified in your response. Subdivide the capital costs into tooling, facilities, launch, and engineering costs.

(b) The maximum production capacity, expressed in units of capacity per year, associated with the capital expenditure in (a) above. Specify the number of production shifts on which your response is based and define “maximum capacity” as used in your answer.

(c) The actual capacity that is planned to be used each year for each new/redesigned model or fuel economy improvement.

(d) The increase in variable costs per affected unit, based on the production volume specified in (b) above.

(e) The equivalent retail price increase per affected vehicle for each new/redesigned model or improvement. Provide an example describing methodology used to determine the equivalent retail price increase.

12. Please provide respondent's actual and projected U.S. light truck sales, 4x2 and 4x4, 0-8,500 lbs. GVWR and 8501-10,000 lbs., GVWR for each model year from 2001 through 2004, inclusive. Please subdivide the data into the following vehicle categories:

i. Standard Pickup Heavy (e.g., C2500/3500, F-250/350, Ram 2500/3500)

ii. Standard Pickup Light (e.g., C1500, F-150, Ram 1500)

iii. Compact Pickup (e.g., S-10, Ranger, Dakota)

iv. Standard Cargo Vans Heavy (e.g., G3500, E-250/350, B3500)

v. Standard Cargo Vans Light (e.g., G1500/2500, E-150, B1500/2500)

vi. Standard Passenger Vans Heavy (e.g., G3500, E-250/350, B3500)

vii. Standard Passenger Vans Light (e.g., G1500/2500, E-150, B1500/2500)

viii. Compact Cargo Vans (e.g., Astro, Aerostar, Mini Ram Van)

ix. Compact Passenger Vans (e.g., Astro, Villager, Voyager)

x. Standard Utilities (e.g., K1500 Tahoe, Expedition)

xi. Compact Utilities (e.g., Blazer, Explorer, Wrangler, RAV4)

xii. Other (e.g., Suburban) See Table D for a sample format.

13. Please provide your estimates of projected total industry U.S. light (0-10,000 lbs, GVWR) truck sales for each model year from 2005 through 2010, inclusive. Please subdivide the data into 4x2 and 4x4 sales and into the vehicle categories listed in the sample format in Table E.

14. Please provide your company's assumptions for U.S. gasoline and diesel fuel prices during 2005 through 2010.

15. Please provide projected production capacity available for the North American market (at standard production rates) for each of your company's light truckline designations during MYs 2005-2010.

16. Please provide your estimate of production lead-time for new models, your expected model life in years, and the number of years over which tooling costs are amortized.

Note: The parenthetical numbers in Tables A through E refer to the items in section III, specifications.

Table A.—New Models—Model: A-1 Standard Pickup
[Drivetrain Configuration: 4x2, Front Engine/Rear Drive]
Body type (3a.) | Passenger volume, ft ³ | Number of seating positions | Cargo volume, ft ³ | Wheelbase, in. (3e.) | PAU Setting, hp. (3f.)
Regular cab, short bed | 50 | 3 | 48 | 115 | 7.5
Regular cab, long bed | 50 | 3 | 64 | 133 | 7.8
Extended cab, long bed | 75 | 4 | 64 | 151 | 8.2
Crew cab, long bed | 100 | 6 | 64 | 170 | 9.0

Engine options (3b.) | Config./number of cyl. | Fuel system | Hp @ RPM Torque @ RPM
160 CID, Turbocharged ¹ | I-4 | MPI | 140 @ 4200 | 90 @ 3400
235 CID | V-6 | TBI | 150 @ 3800 | 125 @ 2800
235 CID, 4-valve ² | V-6 | MPI | 180 @ 4500 | 130 @ 3200
285 CID | V-8 | MPI | 200 @ 4200 | 150 @ 3000
¹ Not available with crew cab.
² Available with automatic transmission only.

Ratios (3c.) | Transmission type: Manual overdrive | Transmission type: Manual creeper | Transmission type: Automatic with electronic controls and TCLU
1st Gear | 4.50 | 6.50 | 3.20
2nd Gear | 3.00 | 3.60 | 2.50
3rd Gear | 1.75 | 1.80 | 1.50
4th Gear | 1.00 | 1.00 | 1.00
5th Gear | 0.80 |  |
Reverse Gear | 4.70 | 6.10 | 3.00
Torque Converter |  |  | 2.10
Axle | 3.54/3.73 | 3.54/3.73 | 3.23/3.54

Table B.—New Engines
Body type (3a.) | Range of GVWR (3d.(i)) | Range of test weights (3d.(ii)) | Range of composite fuel economy ratings (3g.)
Regular Cab, Short Bed | 6,050-7,000 | 4,250-4,500 | 16.0-17.5
Regular Cab, Long Bed | 6,100-7,200 | 4,250-4,500 | 16.0-17.2
Extended Cab, Long Bed | 6,100-7,400 | 4,500-5,000 | 15.5-17.0
Crew Cab, Long Bed | 6,300-7,800 | 4,500-5,000 | 14.5-16.5

Model year | Production (3i) | Share of fleet, % (3i) | Notes (3h, 3j)
2001 | 36,000 | 5 | Mid-year introduction, North American production.
2002 | 78,000 | 10
2004 | 110,000 | 13 | Extended cab introduced.
2005 | 120,000 | 14 | Facelift.

Model year (3j.) | New model designation | Model replaced or augmented | Sales derived from old model | Additional sales anticipated
New Models
2002 | A—Std Pickup | T—Std Pickup | 20,000 | 10,000
2003 | A—Std Pickup | T—Std Pickup | 50,000 | 30,000

Table C.—Technology Improvements
Technological improvement | Percent | Percent production share: 2002 | Percent production share: 2003 | Percent production share: 004 | Percent production share: 2005 | Percent production share: 2006
(6a.) Improved Auto Trans.:
LT-1 | 7.0 | 0 | 0 | 15 | 25 | 55
LT-2 | 6.5 | 0 | 0 | 0 | 20 | 25
LT-3 | 5.0 | 0 | 10 | 30 | 60 | 60
(6b) Improved Manual Trans.:
LV-1 | 1.0 | 2 | 5 | 5 | 5 | 5
U-1 | 0.7 | 0 | 0 | 0 | 8 | 10
¹ Percent fuel economy improvement.

Year of introduction by model (4a./h.) | Type (4b.) | Displacement, L. (4c.) | Induction system (4d.) | Configuration (4c.) | Valves per cylinde r(4f.) | Horsepower @ rpm (4g.) | Torque, lb-ft @ rpm (4g.)
New/Redesigned Engines
2002—Std Pickups | 2-cycle Diesel | 4.42 | Turbo-charged, Direct injection | W-9 | 3 | 250@4000 | 190@3500
2004—Std Vans

Table D.—Actual and Projected U.S. Sales Amalgamated Motors 2WD Light Truck Sales Projections
Model line | Model year: 2001 | Model year: 2002 | Model year: 2003 | Model year: 2004 | Model year: 2005 | Model year: etc.
0-8,500 lbs.GVWR:
Std Pickup Heavy | 43,500 |  |  |  |  |
Std Pickup Light | 509,340 |  |  |  |  |
Compact Pickup | 120,000 |  |  |  |  |
Std Cargo Van Heavy | 60,000 |  |  |  |  |
Std Cargo Van Light | 20,000 |  |  |  |  |
Compact Cargo Van | 29,310 |  |  |  |  |
Std Passenger Van Heavy | 54,196 |  |  |  |  |
Std Passenger Van Light | 38,900 |  |  |  |  |
Compact Passenger Van | 30,000 |  |  |  |  |
Std Utility | 53,800 |  |  |  |  |
Compact Utility | 44,000 |  |  |  |  |
Other (Specify) |  |  |  |  |  |
8,501-10,000 Lbs.GVWR:
Std Pickup Heavy | 5,500 |  |  |  |  |
Std Vans Heavy | 4,000 |  |  |  |  |
Other (Specify) |  |  |  |  |  |
Total | 1,012,546 |  |  |  |  |

Table E.—Total U.S. Truck Sales
Model type | 2001 | 2002 | 2003 | 2004 | 2005 | 2002
1. 2WD Light Trucks |  |  |  |  |  |
a. Pickup |  |  |  |  |  |
Compact |  |  |  |  |  |
Mid-size |  |  |  |  |  |
Standard |  |  |  |  |  |
b. Cargo Vans |  |  |  |  |  |
Compact |  |  |  |  |  |
Standard |  |  |  |  |  |
c. Passenger Vans |  |  |  |  |  |
Compact |  |  |  |  |  |
Standard |  |  |  |  |  |
d. Utilities |  |  |  |  |  |
Compact |  |  |  |  |  |
Standard |  |  |  |  |  |
Pass. Car Based |  |  |  |  |  |
e. Truck Based Station Wagons |  |  |  |  |  |
f. Other (Specify) |  |  |  |  |  |
2. 4WD Light Trucks [Same Breakout as 2WD] |  |  |  |  |  |
3. Total Light Trucks [2WD + 4WD] |  |  |  |  |  |

Dated: April 16, 2002.
Stephen R. Kratzke,
Associate Administrator for Safety Performance Standards.

[FR Doc. 02-9736 Filed 4-17-02; 3:21 pm]

BILLING CODE 4910-59-P